DEPARTMENT OF ENERGY

Federal Energy Regulatory Commission

Notice of Effectiveness of Exempt Wholesale Generator Status

| Docket Nos.
Frontier Windpower II, LLC | EG20-88-000
Coyote Wind, LLC | EG20-89-000
Roundhouse Renewable Energy, LLC | EG20-90-000
Oliver Wind II, LLC | EG20-91-000
Anson Solar Center, LLC | EG20-92-000
Bluestone Farm Solar, LLC | EG20-93-000
Whitehorn Solar LLC | EG20-94-000
Las Majadas Wind Farm, LLC | EG20-95-000
Milligan 1 Wind LLC | EG20-96-000
King Plains Wind Project, LLC | EG20-97-000
Johanna Energy Center, LLC | EG20-98-000
Dakota Range III, LLC | EG20-99-000
Triple H Wind Project, LLC | EG20-100-000
Las Lomas Wind Project, LLC | EG20-101-000
Prairie Hill Wind Project, LLC | EG20-102-000
Mechanicsville Solar, LLC | EG20-103-000
Albemarle Beach Solar, LLC | EG20-104-000
RE Mustang Two Barbaro, LLC | EG20-105-000
RE Mustang Two Whirlaway, LLC | EG20-106-000
LA3 West Baton Rouge, LLC | EG20-107-000
Yards Creek Energy, LLC | EG20-108-000
Inter-Power/AhlCon Partners, L.P | EG20-109-000
Northern Colorado Wind Energy Center, LLC | EG20-110-000

Take notice that during the month of May 2020, the status of the above-captioned entities as Exempt Wholesale Generators became effective by operation of the Commission's regulations. 18 CFR 366.7(a) (2019).

Dated: June 15, 2020.
Nathaniel J. Davis, Sr.,
Deputy Secretary.

[FR Doc. 2020-13242 Filed 6-18-20; 8:45 am]

BILLING CODE 6717-01-P